DEPARTMENT OF HOUSING AND URBAN DEVELOPMENT

[Docket No. FR-4739-N-07]

Notice of Proposed Information Collection: Comment Request; Statement of Taxes

AGENCY: Office of the Assistant Secretary for Housing-Federal Housing Commissioner, HUD.

ACTION: Notice.

SUMMARY: The proposed information collection requirement described below will be submitted to the Office of Management and Budget (OMB) for review, as required by the Paperwork Reduction Act. The Department is soliciting comments on the subject proposal.

DATES: May 24, 2002.

ADDRESSES: Interested persons are invited to submit comments regarding this proposal. Comments should refer to the proposal by name and/or OMB Control Number and should be sent to Wayne Eddins, Reports Management Office, Department of Housing and Urban Development, 451 7th Street, SW., L'Enfant Plaza Building, Room 8003, Washington, DC 20410.

FOR FURTHER INFORMATION CONTACT: Betty A. Belin, Systems Accountant, Office of Financial Services, 451 7th Street, SW., Washington, DC 20410, telephone (202) 401-2168, extension 2807, (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Statement of Taxes.

OMB Control Number: 2505-0418.

Description of the need for the information and proposed use: When a lender with an insured multifamily mortgage assigns a mortgage or conveys a property to HUD, the lender is required to submit all records and accounts relative to the mortgage to HUD. These provisions are spelled out in Statute 12 U.S.C. 1713(g); Title II, section 207(g) of the National Housing Act; and 24 CFR 207.258(b)(4). Included in the records is the Statement of Taxes. From this Statement, HUD updates its records of the mortgagor's real estate taxes, the location (lot and block numbers) of the property, taxes due dates, and penalty dates. During the claim audit for insurance benefits, this form is used to verify the last taxes paid.

Agency form number: HUD-434.

Estimation of the total numbers of hours needed to prepare the information collection including number of respondents, frequency of response, and hours of response: The estimated number of respondents is 215, frequency of response is once per claim, the burden per response is estimated to be .50 hours, and the total estimated annual burden hours requested is 107.

Status of the proposed information collection: Extension of a currently approved collection.

Authority: The paperwork Reduction Act of 1995, 44 U.S.C. Chapter 35, as amended.

Dated: March 19, 2002.
John C. Weicher,
Assistant Secretary for Housing-Federal Housing Commissioner.

[FR Doc. 02-7127 Filed 3-22-02; 8:45 am]

BILLING CODE 4210-27-M